DEPARTMENT OF COMMERCE

National Oceanic and Atmospheric Administration

[I.D. 021102E]

Small Takes of Marine Mammals Incidental to Specified Activities; Movement of Steel Drilling Caisson Through the Bering Strait and Chukchi Sea and Exploratory Drilling and Associated Activities at the McCovey Exploration Prospect in Beaufort Sea, AK

AGENCY: National Marine Fisheries Service (NMFS), National Oceanic and Atmospheric Administration (NOAA), Commerce.

ACTION: Notice of receipt of application and proposed incidental harassment authorization; request for comments.

SUMMARY: NMFS has received a request from Alberta Energy Company Ltd. Oil and Gas, USA, Inc. (AEC) for an authorization to take small numbers of marine mammals by harassment incidental to movement of a Steel Drilling Caisson (SDC) from Port Clarence, AK through the Bering Strait and Chukchi Sea to the Beaufort Sea to planned exploratory drilling and associated activities at the McCovey Exploration Prospect in the western Beaufort Sea. Under the Marine Mammal Protection Act (MMPA), NMFS is requesting comments on its proposal to authorize AEC to incidentally take, by harassment, small numbers of bowhead whales, beluga whales, gray whales, killer whales, harbor porpoise, ringed seals, bearded seals, and spotted seals in the above mentioned areas during May 2002-August 2002 for SDC preparation, movement, refueling, and re-supplying and from mid-October 2002 through mid-March 2003 for the winter drilling season. The incidental take of polar bears and walrus from AEC's planned activities are not covered by this proposed incidental harassment authorization, as these species are under jurisdiction of the U.S. Fish and Wildlife Service.

DATES: Comments and information must be received no later than April 11, 2002.

ADDRESSES: Comments on the application should be addressed to Donna Wieting, Chief, Marine Mammal Conservation Division, Office of Protected Resources, NMFS, 1315 East-West Highway, Silver Spring, MD 20910-3225. A copy of the application used in this document may be obtained by writing to this address or by telephoning one of the contacts listed here.

FOR FURTHER INFORMATION CONTACT: Simona P. Roberts, (301) 713-2322, ext 106 or Brad Smith, (907) 271-3023.

SUPPLEMENTARY INFORMATION:

Background

Sections 101(a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment, notice of a proposed authorization is provided to the public for review.

Permission may be granted if NMFS finds that the taking will have no more than a negligible impact on the species or stock(s) and will not have an unmitigable adverse impact on the availability of the species or stock(s) for subsistence uses and that the permissible methods of taking and requirements pertaining to the monitoring and reporting of such taking are set forth.

On April 10, 1996 (61 FR 15884), NMFS published an interim final rule establishing, among other things, procedures for issuing incidental harassment authorizations (IHAs) under section 101(a)(5)(D) of the MMPA for activities in Arctic waters. For additional information on the procedures to be followed for this authorization, please refer to 50 CFR 216.107.

Summary of Request

On December 18, 2001, NMFS received an application from AEC requesting an authorization for the harassment of small numbers of eight species of marine mammals incidental to movement of a SDC from Port Clarence, AK through the Bering Strait to the Beaufort Sea from May 2002 through August 2002 and planned exploratory drilling and associated activities at the McCovey Exploration Prospect in the Beaufort Sea from mid-October 2002 through mid-March 2003. A detailed description of these activities proposed for 2002-2003 is contained in the application (Lynx Enterprises, Inc., 2001), which is available upon request (see ADDRESSES).

Description of Marine Mammals Affected by the Activity

The region encompassing Port Clarence, AK, the Bering Strait, the Chukchi Sea and western Beaufort Sea supports a diverse assemblage of marine mammals under NMFS jurisdiction, including bowhead whales (Balaena mysticetus), beluga whales(Delphinapterus leucas), gray whales (Eschrichtius robustus), killer whales (Orcinus orca), harbor porpoise (Phocoena phocoena), ringed seals (Phoca hispida), bearded seals (Erignathus barbatus) and spotted seals (Phoca largha). Descriptions of the biology, distribution, and current status of these species can be found in NMFS Stock Assessment Reports (2000, 1999, and 1997). Please refer to those documents for more information on these species.

Potential Effects of SDC Mobilization, Exploratory Drilling, and Associated Activities on Marine Mammals

Potential harassment of marine mammals will result from the noise generated by the operation of towing vessels during SDC mobilization between Port Clarence and the McCovey Prospect, the noise generated during re-fueling and re-supplying the SDC at the McCovey Prospect, and the noise generated from the SDC during winter drilling operations. The physical presence of vessels and aircraft could also lead to disturbance of marine mammals by visual or other cues. The potential for collisions between tug vessels and whales will be eliminated by the slow tow speed (2 knots) and visual monitoring by on-board marine mammal observers.

Marine mammal species with the highest likelihood of being harassed during the SDC mobilization phase (May-July) are: beluga whales, gray whales, ringed seals, and bearded seals. Other marine mammal species less likely to be harassed during the SDC mobilization phase are: spotted seals, killer whales, and harbor porpoise. Bowhead whales are not expected to be encountered during the mobilization phase. The SDC mobilization route will pass through summering grounds for beluga whales in Kotzebue Sound and Kasegaluk Lagoon and the Chukchi Sea feeding grounds for gray whales. The potential for harassment in these areas is greater since the animals may be aggregated when the SDC will be transiting through; however the AEC will be required to monitor for marine mammals throughout the transit and alter their route to avoid harassment of beluga or gray whales.

The marine mammal species with the highest likelihood of being harassed during re-fueling and re-supply of the SDC at McCovey Prospect (July-August) is the ringed seal. This likelihood is based on AEC's past experiences at offshore drilling locations in the mid-Beaufort Sea (e.g., Warthog, Kuvlum). There is the possibility that bearded and spotted seals will also be harassed during re-fueling and re-supply.

It is not likely that bowhead whales will be impacted by re-fueling and re-supply operations since the AEC must finish these operations and shutdown (i.e., cold stack “quiet” mode) the SDC by late August or early September, when bowhead whales begin their westward fall migration in the Beaufort Sea. According to 23 years of survey data collected by the Minerals Management Service (MMS), North Slope Borough, the Alaska Eskimo Whaling Commission (AEWC), and many more years of traditional knowledge from Cross Island-based whale hunters, the annual fall migration of the bowhead whales is normally many kilometers north of the McCovey Prospect. However, because the fall migration path of the bowhead whales is dependent on environmental conditions (i.e., extent of ice coverage) that vary from year-to-year, the extreme southern edge of the fall migration corridor may pass closer to McCovey Prospect, increasing the likelihood that bowhead whales may be harassed by activities. Beluga whale migrations during the open-water refueling and re-supply period are through ice leads well beyond the junction of the land-fast ice with the arctic ice pack and therefore it would be extremely unlikely that beluga whales would be impacted by activities at McCovey Prospect.

Exploratory drilling and well testing operations at McCovey Prospect will only occur after the MMS has determined that the sea ice is fully formed around the SDC (approximately mid-November 2002). No drilling or other operations at McCovey will occur during periods of broken ice or open water conditions. During this drilling period, ringed seals (and possibly spotted and bearded seals) will likely be in the area; however, there is no evidence that these species abandon their winter habitat in the presence of active drilling operations. Drilling and well testing operations will cease in March, when the SDC will be shutdown (i.e., cold stacked) until fast-ice conditions return in November or the SDC will be towed to a different location.

Potential Effects of SDC Mobilization, Exploratory Drilling, and Associated Activities on Habitat

The SDC has an ocean bottom footprint measuring 161.8 meters (m) (531 feet, ft) by 109.7 m (360 ft). When exploratory drilling and testing operations are completed at McCovey and there is no discovery for production, the wells will be plugged and abandoned, and a final site clearance will be performed in accordance with MMS and Alaska Oil and Gas Conservation Commission regulations. This abandonment activity will leave the McCovey Prospect area in an essentially undisturbed condition since there will be no wellhead or appurtenances remaining above the ocean floor. If there is a discovery for production outcome, wells would be plugged and abandoned in a suspended status in accordance with the MMS and movement of the SDC will be in accordance with the AEWC and the MMS.

Numbers of Marine Mammals Expected to Be Taken

NMFS estimates, based on current population estimates, past activities in the same geographic area and information provided by the AEC, that the following numbers of marine mammals may be subject to Level B harassment, as defined in 50 CFR 216.3:

Species | Population Size | Estimated Harassment Takes 2002/2003
Bowhead whale | 8,200 | 12
Gray whale | 26,000 | 20
Beluga whale | 39,258 | 50
Harbor Porpoise | 10,946 | 10
Killer Whale | 346 | 5
Ringed seal | 1-1.5 million | 100
Spotted seal | >200,000 | 10
Bearded seal | >300,000 | 20

Effects of SDC Mobilization, Exploratory Drilling, and Associated Activities on Subsistence Needs

The disturbance and potential displacement of marine mammals by sounds from vessels and drilling activities are the principle concerns related to subsistence use of the area. The harvest of marine mammals (mainly bowhead whales, but also ringed and bearded seals) is central to the culture and subsistence economies of the coastal North Slope communities. In particular, if migrating bowhead whales are displaced farther offshore by elevated noise levels, the harvest of these whales could be more difficult and dangerous for hunters.

Nuiqsut is the community closest to the area of the proposed activity, and it harvests bowhead whales only during the fall whaling season. In recent years, Nuiqsut whalers typically take two to four whales each season (Western Geophysical, 2000). Nuiqsut whalers concentrate their efforts on areas north and east of Cross Island, generally in water depths greater than 20 m (65 ft). Cross Island, the principle field camp location for Nuiqsut whalers, is located 8.53 kilometers (km) (5.3 mi) southeast of the McCovey Prospect. Thus, the possibility and timing of potential re-fueling, re-supply and drilling operations in the Cross Island area requires AEC to provide NMFS with either a Plan of Cooperation with North Slope Borough residents or information identifying measures that have been or will be taken to avoid any unmitigable adverse impact on subsistence needs (see 50 CFR 216.104). AEC's application has identified those measures that will be taken to minimize any adverse effect on subsistence. In addition, the timing of re-fueling, re-supply, and drilling operations will be addressed in a Plan of Cooperation and a Conflict Avoidance Agreement (CAA) with the Nuiqsut whalers and the AEWC (Lynx Enterprises, 2001).

Whalers from the village of Kaktovik search for whales east, north, and west of the village. Kaktovik is located 177 km (110 mi) east of the easternmost end of the McCovey Prospect. The westernmost reported harvest location was about 21 km (13 mi) west of Kaktovik, near 70°10′N, 144° W (Kaleak, 1996).

Many Nuiqsut whale hunters also hunt seals intermittently year round. However, during recent years, most seal hunting has been during the early summer in open water. In summer, boat crews hunt ringed, spotted, and bearded seals. The most important sealing area for Nuiqsut hunters is off the Colville delta, extending as far west as Fish Creek and as far east as Pingok Island. In this area, during summer, sealing occurs by boat when hunters apparently concentrate on bearded seals. However, these subsistence hunters have not perceived any interference between recent oil and gas activities in the Alaskan Beaufort Sea.

As part of early consultations with the AEWC, North Slope Borough, and village whaling captain associations, AEC has agreed that the SDC will be shutdown (i.e., cold stacked, “quiet mode”) during the annual bowhead subsistence hunt (late August-November). This shutdown would eliminate the potential for unmitigable adverse impacts on the availability of marine mammal species for subsistence purposes as a result of the AEC's activities. It is unlikely that AEC's activities will have more than a negligible impact on Nuiqsut seal hunting based on the distance of the McCovey Prospect from the Colville Delta sealing area and AEC's proposed marine mammal monitoring and mitigation measures.

Mitigation

During mobilization of the SDC from Port Clarence to the Beaufort Sea, the AEC will have on-board monitors throughout the transit to ensure they remain as far as operationally practicable from beluga whale concentrations in Kotzebue Sound and Kasegaluk Lagoon and feeding gray whales in the Chuckchi Sea.

AEC proposes to mitigate the potential negative impacts from AEC's re-feuling, re-supply, and exploratory activities at the McCovey Prospect by planning the timing of operations in such a way as to reduce the production of noise during the fall bowhead whale migration. This includes putting the SDC into quiet mode (i.e., cold stack) during the entire bowhead migration period (approximately mid-August through mid-October). In addition to these mitigation measures, the AEC is currently working with the AEWC, North Slope Borough, and other whaling communities on a number of other issues including mitigation plans in the event that the SDC cannot reach the McCovey site prior to the start of the bowhead hunt and transit of supply vessels coming from and returning to Canada.

Monitoring

As part of its application, AEC proposed a visual monitoring program for assessing impacts to marine mammals during the SDC's transit from Port Clarence to the Beaufort Sea and while on-site during the entire re-supply period. In addition, marine mammal observers would be onboard all re-supply vessels transiting from within U.S. waters. NMFS also expects that the AEC will develop an on-ice seal monitoring plan for the exploratory drilling phase. The exact nature of such an on-ice plan should be based on discussions with technical experts and marine mammal biologists prior to and during an on-ice monitoring workshop scheduled for the fall of 2002.

AEC proposes to initiate a comprehensive training program for all potential marine mammal observers that includes learning the identification and behavior of all local species known to use the areas where AEC will be operating. This training would be conducted by professional marine biologists and experienced Native observers participating in the monitoring program. The observer protocol would be to scan the area around vessels and the SDC with binoculars of sufficient power during daylight hours and using night vision equipment during low light conditions. Laser range finding binoculars would be supplied to observers in order to better estimate distances. Observers would collect data on the presence, distribution, and behavior of marine mammals relative to AEC activities as well as climatic conditions at the time of marine mammal sightings. Observations would be made on a nearly 24-hour basis from the time the SDC leaves Port Clarence until the SDC shuts down for the fall (on or before September 1, 2002). If re-supply efforts are necessary between the end of the fall bowhead whale harvest and ice-over, observers would be re-deployed on the SDC and supply vessels. All personnel stationed aboard the SDC during the open water season of 2002 or during exploratory drilling would also receive training on marine mammal monitoring and utilize marine mammal reporting forms to document any incidental takes of marine mammals.

As required by the MMPA, this proposed monitoring plan, as well as the need for on-ice monitoring during exploratory drilling, will be subject to a peer-review panel of technical experts prior to formal acceptance by NMFS.

Reporting

All monitoring data collected would be reported to NMFS and the MMS on a daily or weekly basis. AEC must provide an initial report on 2002-2003 activities to NMFS within 90 days of the completion of the monitoring program. This report will provide dates and locations of the SDC movements, re-supply activities, and other operational activities, details of marine mammal sightings, estimates of the amount and nature of all takes by harassment, and any apparent effects on accessibility of marine mammals to subsistence users.

A draft technical report will be provided to NMFS as soon as possible, but no later than 90 days, following the cessation of 2003 exploratory activities at McCovey. The draft technical report will contain a description of the methods, results, and an analysis of all marine mammal monitoring results as they relate to SDC mobilization, re-fueling and re-supply activities, and exploratory activities on McCovey Prospect.

Endangered Species Act Consultation

If an authorization to incidentally harass listed marine mammals is issued under the MMPA for this activity, NMFS will issue an Incidental Take Statement under section 7 of the ESA.

National Environmental Policy Act

In accordance with section 6.01 of NOAA Administrative Order 216-6 (Environmental Review Procedures for Implementing the National Environmental Policy Act, May 20, 1999), NMFS has analyzed both the context and intensity of this action, as laid out in AEC's application, and has preliminarily determined that the issuance of an IHA to AEC will not individually or cumulatively result in a significant impact on the quality of the human environment as defined in 40 CFR 1508.27 and is therefore categorically excluded from further NEPA analysis. In addition to the required NEPA analysis for categorical exclusion, NMFS' rulemaking for the issuance of IHAs (61 FR 15884; April 10, 1996) stated that for issuance of an IHA, NMFS must first determine that the taking (by harassment) would not result in any serious injury or death to a marine mammal, would have no more than a negligible impact on marine mammals and their habitat, and would not have an unmitigable adverse impact on the availability of the species or stock(s) for subsistence uses. Therefore, NMFS' decision-making process for IHA issuance or denial independently and separately analyzes factors similar to those suggested under section 6.01 of NOAA Administrative Order 216-6 for determining the significance of agency actions for the purposes of NEPA.

Preliminary Conclusions

NMFS has preliminarily determined that the short-term impact of SDC mobilization from Port Clarence, AK through the Bering Strait and Chukchi Sea to the Beaufort Sea and exploratory drilling and associated activities at the McCovey Prospect in the Beaufort Sea will result, at worst, in a temporary modification in behavior by certain species of whales, porpoise, and pinnipeds. While behavioral modifications may be made by these species to avoid the resultant noise or visual cues, this behavioral change is expected to have a negligible impact on the survival and recruitment of stocks.

While the number of potential incidental harassment takes will depend on the year-to-year distribution and abundance of marine mammals in the area of operations, due to the distribution and abundance of marine mammals during the projected period of activity and the location of the proposed activity, the number of potential harassment takings is estimated to be small. In addition, no take by injury and/or death is anticipated, and there is no potential for temporary or permanent hearing impairment as a result of the activities. During SDC mobilization, operations will pass through beluga whale summering grounds in the Kotzebue Sound and Kasegaluk Lagoon and gray whale feeding grounds in the Chukchi Sea. The potential for harassment throughout the Chukchi region will be greatly reduced through constant visual monitoring in these areas. No rookeries, mating grounds, areas of concentrated feeding, or other areas of special significance for marine mammals occur within or near the McCovey Prospect during re-supply, re-fueling and exploratory drilling operations.

Appropriate mitigation measures to avoid an unmitigable adverse impact on the availability of bowhead whales for subsistence needs will be the subject of consultation between AEC and subsistence users and may include additional mitigation measures.

Proposed Authorization

NMFS proposes to issue an IHA for the harassment of marine mammals incidental to movement of a SDC from Port Clarence, AK to the Beaufort Sea and planned exploratory drilling and associated activities at the McCovey Exploration Prospect in the western Beaufort Sea. This IHA proposal is contingent upon incorporation of the previously mentioned mitigation, monitoring, and reporting requirements. NMFS has preliminarily determined that the proposed activity would result in the harassment of only small numbers of bowhead whales, beluga whales, gray whales, killer whales, harbor porpoise, ringed seals, bearded seals and spotted seals; would have no more than a negligible impact on these marine mammal stocks; and would not have an unmitigable adverse impact on the availability of marine mammal stocks for subsistence uses once the Plan of Cooperation and CAA is finalized.

Information Solicited

NMFS requests interested persons to submit comments, and information, concerning this request to Donna Wieting, Chief, Marine Mammal Conservation Division, Office of Protected Resources, NMFS, 1315 East-West Highway, Silver Spring, MD 20910-3225.

Dated: March 6, 2002.
Wanda Cain,
Acting Director, Office of Protected Resources, National Marine Fisheries Service.

[FR Doc. 02-5916 Filed 3-11-02; 8:45 am]

BILLING CODE 3510-22-S